DEPARTMENT OF ENERGY

Federal Energy Regulatory Commission

[Project No. 11480-017]

Haida Corporation, Haida Energy, Inc.; Notice of Application for Transfer of License and Soliciting Comments and Motions To Intervene

November 17, 2009.

On November 6, 2009, Haida Corporation (transferor) and Haida Energy, Inc. (transferee) filed an application for transfer of license of the Reynolds Creek Hydroelectric Project located on Reynolds Creek, near the town of Hydaburg, on Prince of Wales Island, in southeast Alaska.

Applicants seek Commission approval to transfer the license for the Reynolds Creek Hydroelectric Project from the transferor to the transferee.

Applicant Contact: Transferor: Mr. Alvin Edenshaw, President, Haida Corporation, P.O. Box 89, Hydaburg, AK 99922, (907) 230-8780. Mr. Donald H. Clarke, Law Offices of GKRSE, 1500 K Street, NW., Suite 330, Washington, DC 20005, (202) 408-5400.

Transferee: Mr. Alvin Edenshaw, President, Haida Energy, Inc., P.O. Box 89, Hydaburg, AK 99922, (907) 230-8780. Mr. Robert Grimm, President, Alaska Power & Telephone Company, P.O. Box 3222, Port Townsend, WA 98368, (360) 385-1733. Mr. Donald H. Clarke, Law Offices of GKRSE, 1500 K Street, NW., Suite 330, Washington, DC 20005, (202) 408-5400.

FERC Contact: Christopher Chaney, (202) 502-6778.

Deadline for filing comments and motions to intervene: December 18, 2009. Comments and motions to intervene may be filed electronically via the Internet. See 18 CFR 385.2001(a)(1)(iii)(2008) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of Commission's Web site at http://www.ferc.gov/docs-filing/elibrary.asp.

Enter the docket number (P-11480) in the docket number field to access the document. For assistance, call toll-free 1-866-208-3372.

Kimberly D. Bose,
Secretary.

[FR Doc. E9-28116 Filed 11-23-09; 8:45 am]

BILLING CODE 6717-01-P